DEPARTMENT OF ENERGY

Federal Energy Regulatory Commission

Combined Notice of Filings

Take notice that the Commission has received the following Natural Gas Pipeline Rate and Refund Report filings:

Filings Instituting Proceedings

Docket Numbers: PR22-38-000.

Applicants: Columbia Gas of Ohio, Inc.

Description: § 284.123 Rate Filing: SOC rates effective April 29 2022 to be effective 4/29/2022.

Filed Date: 5/10/22.

Accession Number: 20220510-5070.

Comments/Protests Due: 5 p.m. ET 5/31/22.

Docket Numbers: PR22-39-000.

Applicants: Cranberry Pipeline Corporation.

Description: § 284.123(g) Rate Filing: Cranberry Pipeline Corporation Revised Statement of Operating Conditions to be effective 5/12/2022.

Filed Date: 5/11/22.

Accession Number: 20220511-5087.

Comment Date: 5 p.m. ET 6/1/22.

284.123(g) Protests Due: 5 p.m. ET 7/11/2022.

Docket Numbers: RP22-921-000.

Applicants: Tennessee Gas Pipeline Company, L.L.C.

Description: § 4(d) Rate Filing: TGP PCG Pooling Service to be effective 7/1/2022.

Filed Date: 5/11/22.

Accession Number: 20220511-5088.

Comment Date: 5 p.m. ET 5/23/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 12, 2022.
Debbie-Anne A. Reese,
Deputy Secretary.

[FR Doc. 2022-10679 Filed 5-17-22; 8:45 am]

BILLING CODE 6717-01-P